DEPARTMENT OF EDUCATION

[Docket No.: ED-2024-SCC-0040]

Agency Information Collection Activities; Submission to the Office of Management and Budget for Review and Approval; Comment Request; Integrated Postsecondary Education Data System (IPEDS) 2024-25 Through 2026-27

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before June 24, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Integrated Postsecondary Education Data System (IPEDS) 2024-25 through 2026-27.

OMB Control Number: 1850-0582.

Type of Review: Revision of a currently approved ICR.

Respondents/Affected Public: Private Sector.

Total Estimated Number of Annual Responses: 65,536.

Total Estimated Number of Annual Burden Hours: 636,660.

Abstract: The National Center for Education Statistics (NCES) seeks authorization from OMB to make a change to the Integrated Postsecondary Education Data System (IPEDS) data collection. IPEDS is a web-based data collection system designed to collect basic data from all postsecondary institutions in the United States and the other jurisdictions. The IPEDS data collection enables the National Center for Education Statistics (NCES) to report on key dimensions of postsecondary education such as enrollments, degrees and other awards earned, tuition and fees, average net price, student financial aid, graduation rates, student outcomes, revenues and expenditures, faculty salaries, and staff employed.

The IPEDS web-based data collection system was implemented in 2000-01. In 2022-23, IPEDS collected data from 5,983 Title IV postsecondary institutions in the United States and the other jurisdictions. All Title IV institutions are required to respond to IPEDS (Section 490 of the Higher Education Amendments of 1992 [Pub. L. 102-325]). IPEDS allows other (non-Title IV) institutions to participate on a voluntary basis; approximately 200 non-Title IV institutions elect to respond each year. Institution closures and mergers have led to a decrease in the number of institutions in the IPEDS universe over the past few years. Due to these fluctuations, combined with the addition of new institutions, NCES uses rounded estimates for the number of institutions in the respondent burden calculations for the upcoming years (estimated 6,000 Title IV institutions plus 200 non-title IV institutions for a total of 6,200 institutions estimated to submit IPEDS data during the 2024-25 through 2026-27 IPEDS data collections). IPEDS data are available to the public through the College Navigator and IPEDS Use the Data websites.

The current clearance covers the 2022-23 through 2024-25 collections and is due to expire on August 31, 2025. We are requesting to make changes to multiple survey components and other updates to the identification, cross-cutting terminology, and the glossary. The largest changes in this package are (1) the addition of a new Cost (CST) survey component, which combines components taken from the Student Financial Aid (SFA) and Institutional Characteristics (IC) components and combines them with added questions to determine how and make publicly available more information about how postsecondary institutions ask for information above and beyond the FAFSA; and (2) the planned elimination of the Academic Libraries (AL) survey beginning in the 2025-26 administration.

As part of the 30D public comment period review, NCES has added an Appendix E, containing NCES responses to 60D public comments. Further, NCES requests that IPEDS data submitters and other stakeholders respond to the directed questions found in Appendix D of this submission.

Dated: May 20, 2024.
Stephanie Valentine,
PRA Coordinator, Strategic Collections and Clearance, Governance and Strategy Division, Office of Chief Data Officer, Office of Planning, Evaluation and Policy Development.

[FR Doc. 2024-11405 Filed 5-23-24; 8:45 am]

BILLING CODE 4000-01-P